DEPARTMENT OF DEFENSE

Office of the Secretary

Charter Establishment of Department of Defense Federal Advisory Committees

AGENCY: Department of Defense.

ACTION: Establishment of Federal Advisory Committee.

SUMMARY: The Department of Defense (DoD) is publishing this notice to announce that it is establishing the charter for the Government-Industry Advisory Panel (“the Panel”).

FOR FURTHER INFORMATION CONTACT: Jim Freeman, Advisory Committee Management Officer for the Department of Defense, 703-692-5952.

SUPPLEMENTARY INFORMATION: This committee's charter is being established in accordance with the Federal Advisory Committee Act (FACA) of 1972 (5 U.S.C., Appendix, as amended) and 41 CFR 102-3.50(d). The charter, once filed, along with contact information for the Panel's Designated Federal Officer (DFO) can be obtained at http://www.facadatabase.gov/. The Panel, previously established as a non-discretionary advisory committee, is being reestablished as a discretionary advisory committee due to the lapse in legislative authority so it can complete its work. The Panel shall provide to the Secretary of Defense and the Deputy Secretary of Defense, through the Under Secretary of Defense for Acquisition and Sustainment (USD(A&S)), a review of 10 U.S.C. 2320 and 2321, regarding rights in technical data and the validation of proprietary data restrictions and the regulations implementing such sections, for the purpose of ensuring that such statutory and regulatory requirements are best structured to serve the interests of the taxpayers and the national defense. The Panel shall develop recommendations for changes to 10 U.S.C. 2320 and 2321 and the regulations implementing such sections.

Dated: February 15, 2018.
Aaron Siegel,
Alternate OSD Liaison Officer, Department of Defense.

[FR Doc. 2018-03503 Filed 2-20-18; 8:45 am]

BILLING CODE 5001-06-P